AMTRAK REFORM COUNCIL

Notice of Meeting

AGENCY: Amtrak Reform Council.

ACTION: Notice of special public business meeting in Washington, DC.

SUMMARY: As provided in Section 203 of the Amtrak Reform and Accountability Act of 1997 (Reform Act), the Amtrak Reform Council (Council) gives notice of a special public meeting of the Council. On Friday, December 14, 2001, the Council will hold a Business Meeting from 9:30 a.m.-4 p.m. Eastern Standard Time (EST) during which time the Council members will discuss the various options for restructuring intercity rail passenger service. The Council's action plan must be submitted to the Congress on February 7, 2002.

On Friday, November 9th, the Amtrak Reform Council approved a resolution finding that Amtrak would not achieve operational self-sufficiency by December 2, 2002 as required by the Amtrak Reform and Accountability Act of 1997. The Council's Finding starts a 90-day clock in which the Council must submit an action plan for a restructured and rationalized national rail passenger system to Congress. During this same time period, Amtrak must submit a plan to Congress for liquidation.

DATES: The Business Meeting will be held on Friday, December 14, 2001, from 9:30 a.m.-4 p.m. EST. The event is open to the public.

ADDRESSES: The Business Meeting will take place in the Monet Suite in the Loews L'Enfant Hotel, 480 L'Enfant Plaza, SW, Washington, DC 20024. The nearest Metro stop is L'Enfant. Persons in need of special arrangements should contact the person listed below.

FOR FURTHER INFORMATION CONTACT: Deirdre O'Sullivan, Amtrak Reform Council, Room 7105, JM-ARC, 400 Seventh Street, SW, Washington, DC 20590, or by telephone at (202) 366-0591; FAX: 202-493-2061. For information regarding ARC's Finding Resolution, the ARC's Annual Reports, information about ARC Council Members and staff, and much more, you can also visit the Council's Web site at www.amtrakreformcouncil.gov.

SUPPLEMENTARY INFORMATION: The ARC was created by the Amtrak Reform and Accountability Act of 1997 (Reform Act), as an independent commission, to evaluate Amtrak's performance and to make recommendations to Amtrak for achieving further cost containment, productivity improvements, and financial reforms. In addition, the Reform Act provides: that the Council is to monitor cost savings from work rules established under new agreements between Amtrak and its labor unions; that the Council submit an annual report to Congress that includes an assessment of Amtrak's progress on the resolution of productivity issues; and that, after a specified period, the Council has the authority to determine whether Amtrak can meet certain financial goals specified under the Reform Act and, if it finds that Amtrak cannot, to notify the President and the Congress.

The Reform Act prescribes that the Council is to consist of eleven members, including the Secretary of Transportation and ten others nominated by the President and the leadership of the Congress. Members serve a five-year term.

Issued in Washington, DC, December 3, 2001.
Thomas A. Till,
Executive Director.

[FR Doc. 01-30265 Filed 12-5-01; 8:45 am]

BILLING CODE 4910-06-P